DEPARTMENT OF LABOR

Employment and Training Administration

Agency Information Collection Activities; Comment Request; Form ETA-9127, Foreign Labor Certification Quarterly Activity Report

AGENCY: Employment and Training Administration, Labor.

ACTION: Notice.

SUMMARY: The Department of Labor's (Department) Employment and Training Administration (ETA) is soliciting comments concerning a proposed extension for the authority to conduct the Information Collection Request (ICR), titled “ETA-9127, Foreign Labor Certification Quarterly Activity Report.” This action seeks an extension of the collection without changes. This comment request is part of continuing Departmental efforts to reduce paperwork and respondent burden in accordance with the Paperwork Reduction Act of 1995 (PRA).

DATES: Consideration will be given to all written comments received by February 14, 2022.

ADDRESSES: A copy of this ICR with applicable supporting documentation, including a description of the likely respondents, proposed frequency of response, and estimated total burden, may be obtained for free by contacting Brian Pasternak, Administrator, Office of Foreign Labor Certification, by telephone at 202-693-8200 (this is not a toll-free number), TTY 1-877-889-5627 (this is not a toll-free number), or by email at ETA.OFLC.Forms@dol.gov.

Submit written comments about, or requests for a copy of, this ICR by email at ETA.OFLC.Forms@dol.gov.

FOR FURTHER INFORMATION CONTACT: Brian Pasternak, Administrator, Office of Foreign Labor Certification, by telephone at 202-693-8200 (this is not a toll-free number) or by email at ETA.OFLC.Forms@dol.gov.

SUPPLEMENTARY INFORMATION: The Department, in its continuing efforts to reduce paperwork and respondent burden, conducts a pre-clearance consultation program to provide the general public and Federal agencies an opportunity to comment on proposed and/or continuing collections of information before submitting them to the Office of Management and Budget (OMB) for final approval. This program ensures the public provides all necessary data in the desired format, the reporting burden (time and financial resources) is minimized, collection instruments are clearly understood, and the impact of collection requirements can be properly assessed.

Under the foreign labor certification programs administered by ETA, SWAs are funded through annually reimbursable grants. These grants fund certain activities that support the processing of applications for temporary labor certification filed by U.S. employers in order to hire foreign workers in the H-2B or H-2A visa categories to perform nonagricultural or agricultural services or labor. Under the grant agreements, SWAs must review and transmit, through the intrastate and interstate systems, job orders submitted by employers in order to recruit U.S. workers prior to filling the job openings with foreign workers. In order to effectively monitor the administration of foreign labor certification activities by the SWAs, the Department requires the SWAs to report their workloads related to these activities on a quarterly basis. This collection of information is conducted through the Form ETA-9127, Foreign Labor Certification Quarterly Activity Report. This report is critical for ensuring accountability and for future program management, including budget and workload management.

The current ICR expires September 22, 2022. The Department seeks to extend, without changes, the validity of the Form ETA-9127 and the instructions that accompany the form. This information collection is subject to the PRA. A Federal agency generally cannot conduct or sponsor a collection of information, and the public is generally not required to respond to an information collection unless OMB, under the PRA, approves it and the collection tool displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0457.

Submitted comments will also be a matter of public record for this ICR and posted on the internet, without redaction. The Department encourages commenters not to include personally identifiable information, confidential business data, or other sensitive statements/information in any comments.

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

Agency: DOL-ETA.

Type of Review: Extension without Changes.

Title of Collection: Form ETA-9127, Foreign Labor Certification Quarterly Activity Report.

OMB Control Number: 1205-0457.

Affected Public: State, Local or Tribal Governments.

Forms: Foreign Labor Certification Quarterly Activity Report, Form ETA-9127; Foreign Labor Certification Quarterly Activity Report, Instructions for Completing the Form ETA-9127.

Total Estimated Number of Annual Respondents: 54.

Frequency: Quarterly.

Total Estimated Annual Responses: 216.

Average Time per Response: 1 hour and 45 minutes.

Total Estimated Annual Time Burden: 378 hours.

Total Estimated Annual Other Costs Burden: $0.

(Authority: 44 U.S.C. 3506(c)(2)(A))

Angela Hanks,
Acting Assistant Secretary for Employment and Training, Labor.

[FR Doc. 2021-27191 Filed 12-15-21; 8:45 am]

BILLING CODE 4510-FP-P